DEPARTMENT OF DEFENSE

Department of the Navy

[USN-2008-0008]

Privacy Act of 1974; System of Records

AGENCY: Department of the Navy, DoD.

ACTION: Notice to Amend a System of Records.

SUMMARY: The Department of the Navy is amending a system of records notice in its existing inventory of record systems subject to the Privacy Act of 1974, (5 U.S.C. 552a), as amended.

DATES: This proposed action will be effective without further notice on March 31, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: February 25, 2008.
L.M. Bynum,
Alternate OSD Federal Register Liaison Officer, Department of Defense.

N01000-3

SYSTEM NAME:

Navy Individual Service Review Board (ISRB) Proceedings Application File (March 18, 1997, 62 FR 12806).

CHANGES:

SYSTEM NAME:

Delete entry and replace with “DoD Civilian/Military Service Review Board.”

SYSTEM LOCATION:

Delete entry and replace with “Navy Personnel Command (PERS-312), 5720 Interity Drive, Millington, TN 38055-3120).”

* * * * *

CATEGORIES OF RECORDS IN THE SYSTEM:

Delete entry and replace with “DD Form 2168—Application of Member or Survivor of Member of Group certified to have performed active duty with the Armed Forces of the United States; supporting documentation; copies of correspondence between the individual; and, other correspondence concerning the case.

* * * * *

AUTHORITY FOR MAINTENANCE OF THE SYSTEM:

Delete entry and replace with “Pub. L. 95-202; DoD Directive 1000.20, “Determinations of Active Military Service and Discharge Civilian or Contractual Personnel; and E.O. 9397 (SSN).”

PURPOSE(S):

Add at end of entry “under Public Law 95-202 for the purpose of benefits from the Department of Veterans Affairs.”

* * * * *

STORAGE:

Delete entry and replace with “Paper files and electronic media.”

SAFEGUARD:

Delete entry and replace with “The files are kept within the Navy Personnel Command (NPC) offices. Access during business hours is controlled by NPC personnel. Records not in use are maintained in a room which is locked during non-duty hours. NPC is secured at the close of business and the building in which NPC is located has limited access controlled by security system.”

RETENTION AND DISPOSAL:

Delete entry and replace with “Approved applications received at Navy Personnel Command since 1997 necessitate creation of a service record which is part of the Navy Electronic Military Personnel Records System (EMPRS). Approved applications that resulted in the creation of a Navy service records prior to 1997 is maintained by the National Personnel Records Center, 9700 Page Avenue, St. Louis, MO 63132-5100. Disapproved applications and associated correspondence are retained at NPC for two years and then destroyed.”

* * * * *

NOTIFICATION PROCEDURE:

Delete entry and replace with “Individuals seeking to determine whether information about themselves is contained in this system should address written inquiries to the Commander, Navy Personnel Command (PERS-212), 5720 Integrity Drive, Millington, TN 38055-3120.

Request should contain name and SSN and be signed.”

RECORD ACCESS PROCEDURES:

Delete entry and replace with “Individuals seeking access to information about themselves contained in this system should address written inquiries to the Commander, Navy Personnel Command (PERS-212), 5720 Integrity Drive, Millington, TN 38055-3120.

Request should contain name and SSN and be signed.”

* * * * *

N01000-3

SYSTEM NAME:

DoD Civilian/Military Service Review Board.

SYSTEM LOCATION:

Navy Personnel Command (PERS-312), 5720 Integrity Drive, Millington, TN 38055-3120).

CATEGORIES OF INDIVIDUALS COVERED BY THE SYSTEM:

DD Form 2168—Application of Member or Survivor of Member of Group certified to have performed active duty with the Armed Forces of the United States; supporting documentation; copies of correspondence between the individual; and other correspondence concerning the case.

CATEGORIES OF RECORDS IN THE SYSTEM:

Application for discharge, supporting documentation, copies of correspondence between the individual and the Navy ISRB and other correspondence concerning the case.

AUTHORITY FOR MAINTENANCE OF THE SYSTEM:

Pub. L. 95-202; DoD Directive 1000.20, “Determinations of Active Military Service and Discharge Civilian or Contractual Personnel; and E.O. 9397 (SSN).”

PURPOSE(S):

To consider the individual's application for military status and discharge under Public Law 95-202 for the purpose of benefits from the Department of Veterans Affairs.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of the Navy's compilation of systems of records notices apply to this system.

POLICIES AND PRACTICES FOR STORING, RETRIEVING, ACCESSING, RETAINING, AND DISPOSING OF RECORDS IN THE SYSTEM:

STORAGE:

Paper files and electronic media.

RETRIEVABILITY:

Name and Social Security Number (SSN).

SAFEGUARDS:

Delete entry and replace with “The files are kept within the Navy Personnel Command (NPC) offices. Access during business hours is controlled by NPC personnel. Records not in use are maintained in a room which is locked during non-duty hours. NPC is secured at the close of business and the building in which NPC is located has limited access controlled by security system.

RETENTION AND DISPOSAL:

Approved applications received at Navy Personnel Command since 1997 necessitate creation of a service record which is part of the Navy Electronic Military Personnel Records System (EMPRS). Approved applications that resulted in the creation of a Navy service records prior to 1997 is maintained by the National Personnel Records Center, 9700 Page Avenue, St. Louis, MO 63132-5100. Disapproved applications and associated correspondence are retained at NPC for two years and then destroyed.

SYSTEM MANAGER(S) AND ADDRESS:

Commander, Navy Personnel Command (PERS-212), 5720 Integrity Drive, Millington, TN 38055-3120.

NOTIFICATION PROCEDURE:

Individuals seeking to determine whether information about themselves is contained in this system should address written inquiries to the Commander, Navy Personnel Command (PERS-212), 5720 Integrity Drive, Millington, TN 38055-3120.

Request should contain name and SSN and be signed.

RECORD ACCESS PROCEDURES:

Individuals seeking access to information about themselves contained in this system should address written inquiries to the Commander, Navy Personnel Command (PERS-212), 5720 Integrity Drive, Millington, TN 38055-3120.

Request should contain name and SSN and be signed.

CONTESTING RECORD PROCEDURES:

The Navy's rules for accessing records, and for contesting contents and appealing initial agency determinations are published in Secretary of the Navy Instruction 5211.5; 32 CFR part 701; or may be obtained from the system manager.

RECORD SOURCE CATEGORIES:

Information contained in the files is obtained from the individual or those acting on the individual's behalf, from other military records and from the Department of Defense Civilian/Military Service Review Board.

EXEMPTIONS CLAIMED FOR THE SYSTEM:

None.

[FR Doc. E8-3909 Filed 2-28-08; 8:45 am]

BILLING CODE 5001-06-P